DEPARTMENT OF HEALTH AND HUMAN SERVICES

National Institutes of Health

National Institute of Mental Health; Amended Notice of Meeting

Notice is hereby given of a change in the meeting of the Interventions Committee for Disorders Involving Children and Their Families, October 11, 2013, 08:30 a.m. to October 11, 2013, 05:00 p.m., Melrose Hotel, 2430 Pennsylvania Ave. NW., Washington, DC, 20037 which was published in the Federal Register on September 04, 2013, 78 FR 54477.

Due to the Government shutdown, this meeting will now be held on November 4, 2013, as a telephone conference meeting at the Neuroscience Center. The meeting is closed to the public.

Dated: October 22, 2013.
Carolyn Baum,
Program Analyst, Office of Federal Advisory Committee Policy.

[FR Doc. 2013-25229 Filed 10-25-13; 8:45 am]

BILLING CODE 4140-01-P